DEPARTMENT OF COMMERCE

Patent and Trademark Office

[Docket No. PTO-P-2021-0032]

Patent Eligibility Jurisprudence Study

AGENCY: United States Patent and Trademark Office, Department of Commerce.

ACTION: Request for information; extension of comment period.

SUMMARY: On July 9, 2021, the United States Patent and Trademark Office (USPTO) published a request for public input on a study it is conducting on the current state of patent eligibility jurisprudence in the United States and on how that jurisprudence has impacted investment and innovation. Through this notice, the USPTO is extending the period for public comment until October 15, 2021.

DATES: Comment date: Comments must be received by October 15, 2021. Late comments will be considered to the extent practicable.

ADDRESSES: For reasons of Government efficiency, comments must be submitted through the Federal eRulemaking Portal at www.regulations.gov. To submit comments via the portal, enter docket number PTO-P-2021-0032 on the homepage and click “Search.” The site will provide a search results page listing all documents associated with this docket. Find a reference to this request for information and click on the “Comment Now!” icon, complete the required fields, and enter or attach your comments. Attachments to electronic comments will be accepted in ADOBE® portable document format or MICROSOFT WORD® format. Because comments will be made available for public inspection, information that the submitter does not desire to make public, such as an address or phone number, should not be included in the comments. Visit the Federal eRulemaking Portal for additional instructions on providing comments via the portal. If electronic submission of comments is not feasible due to a lack of access to a computer and/or the internet, please contact the USPTO using the contact information below for special instructions regarding how to submit comments by other means.

FOR FURTHER INFORMATION CONTACT: Courtney L. Stopp, Office of Policy and International Affairs, USPTO, at Courtney.Stopp@uspto.gov or 571-272-9300. Please direct media inquiries to the USPTO's Office of the Chief Communications Officer at 571-272-8400.

SUPPLEMENTARY INFORMATION: At the request of Senators Tillis, Hirono, Cotton, and Coons, the USPTO is conducting a study on the current state of patent eligibility jurisprudence in the United States and on how that jurisprudence has impacted investment and innovation. On July 9, 2021, the USPTO published a request for information, seeking public input to assist in the preparation of that study. See Patent Eligibility Jurisprudence Study, 86 FR 36257 (Jul. 9, 2021). The notice requested public comments by September 7, 2021.

Through this notice, the USPTO is extending the period for public comment until October 15, 2021, to give interested members of the public additional time to submit comments. All other information and instructions to commenters provided in the July 9, 2021, notice remain unchanged. Previously submitted comments do not need to be resubmitted.

Andrew Hirshfeld,
Commissioner for Patents, Performing the Functions and Duties of the Under Secretary of Commerce for Intellectual Property and Director of the United States Patent and Trademark Office.

[FR Doc. 2021-19112 Filed 9-2-21; 8:45 am]

BILLING CODE 3510-16-P